DEPARTMENT OF LABOR

Employment and Training Administration

[TA-W-73,758]

Bluescope Buildings North America, Including Workers Whose Unemployment Insurance (UI) Wages Are Reported Through Butler Manufacturing Company, Laurinburg, NC; Amended Certification Regarding Eligibility To Apply for Worker Adjustment Assistance

In accordance with Section 223 of the Trade Act of 1974, as amended (“Act”), 19 U.S.C. 2273, the Department of Labor issued a Certification of Eligibility to Apply for Worker Adjustment Assistance on May 18, 2010, applicable to workers of BlueScope Buildings North America, Laurinburg, North Carolina. The notice was published in the Federal Register on June 7, 2010 (75 FR 32224).

At the request of the State Agency, the Department reviewed the certification for workers of the subject firm. The workers are engaged in activities related to prefabricated metal building components.

New information shows that some workers separated from employment at BlueScope Buildings North America had their wages reported through a separate unemployment insurance (UI) tax account under the name Butler Manufacturing Company, a division of BlueScope Buildings North America.

Accordingly, the Department is amending this certification to properly reflect this matter.

The intent of the Department's certification is to include all workers of the subject firm who were adversely affected by a shift in the production of prefabricated metal building components to Mexico.

The amended notice applicable to TA-W-73,758 is hereby issued as follows:

All workers of BlueScope Buildings North America, including workers whose unemployment insurance (UI) wages are reported through Butler Manufacturing Company, Laurinburg, North Carolina, who became totally or partially separated from employment on or after March 19, 2009, through May 18, 2012, and all workers in the group threatened with total or partial separation from employment on date of certification through two years from the date of certification, are eligible to apply for adjustment assistance under Chapter 2 of Title II of the Trade Act of 1974, as amended.

Signed in Washington, DC, this 13th day of August, 2010.
Del Min Amy Chen,
Certifying Officer, Office of Trade Adjustment Assistance.

[FR Doc. 2010-21399 Filed 8-27-10; 8:45 am]

BILLING CODE 4510-FN-P